DEPARTMENT OF COMMERCE

International Trade Administration

United States Investment Advisory Council

AGENCY: SelectUSA, International Trade Administration, Department of Commerce.

ACTION: Notice of deadline extension.

SUMMARY: On February 7, 2024, the Department of Commerce published in the Federal Register a notice soliciting applications for membership on the United States Investment Advisory Council (IAC or Council). The notice established a deadline date of March 20, 2024, for the transmittal of applications. This notice extends the deadline for transmittal of applications until May 15, 2024.

DATES: Applications for immediate consideration for membership must be received by the Office of SelectUSA by 5:00 p.m. Eastern Daylight Time (EDT) on May 15, 2024. Applications received after this date may be considered by SelectUSA as appropriate and when vacancies become available.

ADDRESSES: Please submit application information by email to IAC@trade.gov.

FOR FURTHER INFORMATION CONTACT: Claire Pillsbury, SelectUSA, U.S. Department of Commerce; telephone: (202) 578-8239; email: IAC@trade.gov.

SUPPLEMENTARY INFORMATION: On February 7, 2024, we published a notice soliciting members for the United States Investment Advisory Council in the Federal Register (89 FR 8405). The notice established a deadline date of March 20, 2024, for the transmittal applications. We are extending the deadline for the transmittal of applications to allow additional time for applicants to complete and submit their applications.

All applications previously received pursuant to the February 7, 2024 Federal Register Notice will be duly considered during the extended solicitation period and should not be resubmitted.

Note: All requirements and conditions stated in the original notice remain the same, except for the deadline for the transmittal of applications.

Jasjit Kalra,
Executive Director, SelectUSA.

[FR Doc. 2024-06988 Filed 4-2-24; 8:45 am]

BILLING CODE 3510-DR-P